DEPARTMENT OF ENERGY

Federal Energy Regulatory Commission

[Docket Nos. RP95-197-046 and RP97-71-038]

Federal Energy Regulatory Commission; Transcontinental Gas Pipe Line Corporation; Notice of Compliance Filing

October 16, 2002.

Take notice that on October 10, 2002, Transcontinental Gas Pipe Line Corporation (Transco) tendered for filing as part of its FERC Gas Tariff, Third Revised Volume No. 1 certain revised tariff sheets listed on Appendix C attached to the filing, to be effective October 1, 2002.

Transco states that the purpose of the filing is to comply with the Commission's Order issued September 30, 2002, which directed Transco to (i) refile certain tariff sheets to remove the effects of the proposed section 5 tariff changes relating to the unbundling of the costs associated with its Emergency Eminence Storage Withdrawal Service and (ii) file a response to protest a by The KeySpan Delivery Companies.

Transco states that copies of the filing are being mailed to all parties in Docket Nos. RP95-197 and RP97-71 and interested State Commissions.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, call (202)502-8222 or for TTY, (202) 502-8659. The Commission strongly encourages electronic filings. See 18 CFR 385.2001(a)(1)(iii) and the instructions on the Commission's Web site under the “e-Filing” link.

Linwood A. Watson, Jr.,
Deputy Secretary.

[FR Doc. 02-26959 Filed 10-22-02; 8:45 am]

BILLING CODE 6717-01-P